DEPARTMENT OF JUSTICE

National Institute of Corrections

Advisory Board; Notice of Meeting

This notice announces a forthcoming virtual meeting of the National Institute of Corrections (NIC) Advisory Board. The meeting will be open to the public.

Name of the Committee: NIC Advisory Board.

General Function of the Committee: To aid the National Institute of Corrections in developing long-range plans, advise on program development, and recommend guidance to assist NIC's efforts in the areas of training, technical assistance, information services, and policy/program development assistance to Federal, state, and local corrections agencies.

Date and Time: 12:00-4:00 p.m. EDT on Wednesday, June 1, 2022; 12:00-4:00 p.m. EDT on Thursday, June 2, 2022 (approximate times each day).

Location: Virtual Platform.

Contact Person: Leslie LeMaster, Executive Assistant, National Institute of Corrections, 320 First Street NW, Room 901-3, Washington, DC 20534. To contact Ms. LeMaster, please call (303) 338-6620.

Agenda: Over the course of two days (June 1-2, 2022), the Advisory Board will receive an (1) Agency Report from the NIC Acting Director and (2) overviews/updates from the agency's programmatic divisions (jails, prisons, community services, and/or academy divisions). Time for questions and counsel is built in to the agenda. Initial planning for FY23 Advisory Board meeting(s) will also occur.

Procedure: On June 1-2, 2022, the meetings are open to the public. Interested persons may present data, information, or views, orally or in writing, on issues pending before the committee between approximately 3:00 p.m. to 3:15 p.m. each day. Written submissions may be submitted to the contact person on or before May 18, 2022. Time allotted for each presentation may be limited. Those desiring to make formal oral presentations should notify the contact person and submit a brief written statement of the general nature of the evidence or arguments they wish to present, the names and addresses of proposed participants, and an indication of the approximate time requested on or before May 18, 2022.

General Information: NIC welcomes the attendance of the public at its advisory committee meetings and will make every effort to accommodate persons with physical disabilities or special needs. If you require special accommodations due to a disability, please contact Leslie LeMaster at least 7 days in advance of the meeting. Notice of this meeting is given under the Federal Advisory Committee Act (5 U.S.C. app. 2).

Shaina Vanek,
Acting Director, National Institute of Corrections.

[FR Doc. 2022-09605 Filed 5-4-22; 8:45 am]

BILLING CODE 4410-36-P